DEPARTMENT OF HOUSING AND URBAN DEVELOPMENT

[Docket No. FR-7082-N-13]

60-Day Notice of Proposed Information Collection: Continuum of Care (CoC) Program Registration; OMB Control No: 2506-0182

AGENCY: Office of Community Planning and Development, HUD.

ACTION: Notice.

SUMMARY: HUD is seeking approval from the Office of Management and Budget (OMB) for the information collection described below. In accordance with the Paperwork Reduction Act, HUD is requesting comment from all interested parties on the proposed collection of information. The purpose of this notice is to allow for 60 days of public comment.

DATES: Comments Due Date: February 7, 2025.

ADDRESSES: Interested persons are invited to submit comments regarding this proposal. Written comments and recommendations for the proposed information collection can be sent within 60 days of publication of this notice to www.regulations.gov. Interested persons are also invited to submit comments regarding this proposal by name and/or OMB Control Number and can be sent to: Colette Pollard, Reports Management Officer, REE, Department of Housing and Urban Development, 451 7th Street SW, Room 8210, Washington, DC 20410-5000; telephone (202) 402-3400. (this is not a toll-free number) or email at Colette.Pollard@hud.gov, for a copy of the proposed forms or other available information.

FOR FURTHER INFORMATION CONTACT: Robert Waters, Senior Program Specialist, Office of Special Needs Assistance Programs, Department of Housing and Urban Development, 451 7th Street SW, Washington, DC 20410; email Robert.P.Waters@hud.gov, telephone (202) 402-4494. This is not a toll-free number. HUD welcomes and is prepared to receive calls from individuals who are deaf or hard of hearing, as well as individuals with speech or communication disabilities. To learn more about how to make an accessible telephone call, please visit https://www.fcc.gov/consumers/guides/telecommunications-relay-service-trs. Copies of available documents submitted to OMB may be obtained from Mr. Waters or Ms. Pollard.

SUPPLEMENTARY INFORMATION: This notice informs the public that HUD is seeking approval from OMB for the information collection described in Section A.

A. Overview of Information Collection

Title of Information Collection: Continuum of Care (CoC) Program Registration.

OMB Approval Number: 2506-0182.

Type of Request: Extension of currently approved collection.

Description of the need for the information and proposed use: This submission is to request an extension of an existing collection in use with OMB Control Number 2506-0182, for the Recordkeeping for HUD's Continuum of Care Homeless Assistance Grant Application—Continuum of Care Registration. CoC Program Collaborative Applicants complete forms registering CoCs prior to the annual CoC Program Competition, which collects each CoCs number and name (designated by HUD), the geographic codes selected by CoCs to designate the areas each CoC covers to provide housing and services to individuals and families experiencing homelessness. The information collected during the registration process is used by HUD to determine the CoCs that will submit a CoC Consolidated Application when the Competition process opens.

During CoC Program Registration, Collaborative Applicants may also request Unified Funding Agency (UFA) or High Performing Community (HPC) designation. If requesting UFA or HPC designation, additional forms and attachments created by the Collaborative Applicant or CoC are submitted for HUD's review to determine eligibility. The statutory and regulatory requirements related to the CoC Program and applicable supplementary documents are located on the CoC Program page on HUD's website.

Respondents (i.e., affected public): Nonprofit organizations, states, local governments, and instrumentalities of state and local governments, Indian Tribes, Tribally Designated Housing Entities (TDHEs) (as defined in section 4 of the Native American Housing Assistance and Self-Determination Act of 1996 (25 U.S.C. 4103)), and Public Housing Agencies (PHAs), as such term is defined in 24 CFR 5.100.

Information Collection/Form Number: Information is collected via the electronic e-snaps application system.

Estimated Number of Respondents: 405.

Estimated Number of Responses: 405.

Frequency of Response: Annually.

Responses per Annum: 835.

Average Hours per Response: See chart.

Total Estimated Burdens: See chart; however, the information included in the chart below is subject to change due to: 1) increase or decrease, based on the number of CoCs due to CoC mergers, splits, or creation of new CoCs; and 2) submission of UFA and HPC registration forms due to the number of Collaborative Applicants requesting UFA designation and the number of CoCs requesting HPC designation.

Information collection | Number of respondents | Frequency of response | Responses per annum | Burden hour per response | Annual burden hours | Hourly cost per response | Annual cost
CoC Registration—Basic | 405 | 1 | 405 | 1 | 405 | $43.55 | $17,637.75
CoC Registration—UFA designation request | 20 | 1 | 20 | 15 | 300 | 43.55 | 13,065.00
CoC Registration—HPC designation request | 5 | 1 | 5 | 10 | 50 | 43.55 | 2,177.50
Grant Inventory Worksheet | 405 | 1 | 405 | 4 | 1,620 | 43.55 | 70,551.00
Total | 405 | 1 | 835 | 5 | 3,995 |  | 103,431.25
*Responses to UFA and HPC designations are subsets of the total 405 basic registration numbers as the basic CoC Registration is completed by all Collaborative Applicants to register the CoCs. On average there are 20 requests for UFA designation and to date no requests for HPC designation. The total number of respondents is subject to change annually due to CoCs merging or splitting and with newly created CoCs due to authorizing language expanding eligibility (e.g., FY 2021 appropriations language authorizing the Indian Tribes and TDHEs eligibility to form CoCs, submit CoC Consolidated applications, and project applications).

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

C. Authority

Section 3507 of the Paperwork Reduction Act of 1995, 44 U.S.C. chapter 35.

Marion M. McFadden,
Principal Deputy Assistant Secretary for Community Planning and Development.

[FR Doc. 2024-28854 Filed 12-6-24; 8:45 am]

BILLING CODE 4210-67-P